DEPARTMENT OF THE INTERIOR

National Park Service

[NPS-WASO-NRNHL-0811-8127; 2280-665]

National Register of Historic Places; Notification of Pending Nominations and Related Actions

Nominations for the following properties being considered for listing or related actions in the National Register were received by the National Park Service before August 1, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St. NW., 8th floor, Washington, DC 20005; or by fax, 202-371-6447. Written or faxed comments should be submitted by September 8, 2011. Before including your address, phone number, e-mail address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

ARIZONA

Maricopa County

el chaparral, 4935 E. Lafayette Blvd., Phoenix, 11000631

COLORADO

Park County

Threemile Gulch, Address Restricted, Hartsel, 11000632

MAINE

Knox County

Land's End Historic District, Marshall Point & Cottage Rds., Lentine & Land's End Lns., Saint George, 11000633

MICHIGAN

Allegan County

Michigan Paper Company Mill Historic District, 200 Allegan St., Plainwell, 11000636

Leelanau County

Campbell—De Young Farm, 9510 E. Cherry Bend Rd. (Elmwood Charter Township), Cherry Bend, 11000634

Livingston County

Warner, Timothy and Lucretia Jones, Homestead, 4001 W. Buno Rd. (Brighton Township), Brighton, 11000635

OKLAHOMA

Grady County

Knippelmeir Farmstead, 672 OK 152, Minco, 11000638

Kay County

Sheets House, 1350 W. Peckingham Rd., Newkirk, 11000639

Lincoln County

Phillips 66 Station No. 1423, (Route 66 in Oklahoma MPS) 701 S. Manvel, Chandler, 11000640

Tulsa County

Tulsa Civic Center Historic District, Between W. 3rd & 6th Sts. & S. Houston & Denver Aves., Tulsa, 11000641

PENNSYLVANIA

Chester County

Atkinson, Clement, Memorial Hospital, 822-824 E. Chestnut St., Coatesville City, 11000642

Clearfield County

Schrot, Joseph F. and Anna B., Farm, (Agricultural Resources of Pennsylvania MPS) 880 Carbon Mine Rd. (Lawrence Township), Hyde, 11000643

Dauphin County

Allerman, Conrad and Margaret, House, 1412 Farmhouse Ln. (Lower Swatara Township), Ebenezer, 11000644

Steelton High School, (Educational Resources of Pennsylvania MPS) 100 S. 4th St., Steelton Borough, 11000645

Indiana County

Clark, Sen. Joseph O., House, 247 1st Ave., Glen Campbell Borough, 11000646

Lackawanna County

Scranton Chamber of Commerce Building, 426 Mulberry Ave., Scranton, 11000647

Philadelphia County

Philadelphia, Wilmington and Baltimore Railroad Freight Shed, 1001 S. 15th St., Philadephia, 11000649

Tasty Baking Company Building, 2801 W. Hunting Park Ave., Philadelphia, 11000648

SOUTH CAROLINA

Lancaster County

Perry—McIlwain—McDow House, 2297 Douglas Rd., Lancaster, 11000650

TEXAS

Bexar County

Alamo Stadium and Gymnasium, 110 Tuleta Dr., San Antonio, 11000651

Jackson County

Edna Theatre, 201 W. Main St., Edna, 11000652

VIRGINIA

Clarke County

Cleridge, 1649 Old Charles Town Rd., Stephenson, 11000653

In the interest of preservation, the comment period for the following resource has been shortened to (3) three days.

NORTH CAROLINA

Mecklenburg County

Barringer Hotel, 426 N. Tryon St., Charlotte, 11000637

[FR Doc. 2011-21588 Filed 8-23-11; 8:45 am]

BILLING CODE 4312-51-P